DEPARTMENT OF COMMERCE

National Oceanic and Atmospheric Administration

[RTID 0648-XE192]

Marine Mammals and Endangered Species

AGENCY: National Marine Fisheries Service (NMFS), National Oceanic and Atmospheric Administration (NOAA), Commerce.

ACTION: Notice; issuance of a permit amendment.

SUMMARY: Notice is hereby given that a permit amendment has been issued to the following entity under the Marine Mammal Protection Act (MMPA).

ADDRESSES: The permits and related documents are available for review upon written request via email to NMFS.Pr1Comments@noaa.gov.

FOR FURTHER INFORMATION CONTACT: Jennifer Skidmore; at (301) 427-8401.

SUPPLEMENTARY INFORMATION: Notice was published in the Federal Register on the date listed below that a request for a permit amendment had been submitted by the below-named applicant. To locate the Federal Register notice that announced our receipt of the application and a complete description of the activities, go to https://www.federalregister.gov and search on the permit number provided in table 1 below.

Table 1—Issued Permit Amendment
Permit No. | RTID | Applicant | Previous Federal Register notice | Issuance date
27514-01 | 0648-XD927 | Heather E. Liwanag, Ph.D., California Polytechnic State University, 1 Grand Avenue, San Luis Obispo, CA 93407 | 89 FR 36765, May 3, 2024 | July 11, 2024

In compliance with the National Environmental Policy Act of 1969 (42 U.S.C. 4321 et seq.), a final determination has been made that the activities proposed are categorically excluded from the requirement to prepare an environmental assessment or environmental impact statement.

Authority: The requested permit amendment has been issued under the MMPA of 1972, as amended (16 U.S.C. 1361 et seq.), the regulations governing the taking and importing of marine mammals (50 CFR part 216).

Dated: August 13, 2024.
Julia M. Harrison,
Chief, Permits and Conservation Division, Office of Protected Resources, National Marine Fisheries Service.

[FR Doc. 2024-18423 Filed 8-15-24; 8:45 am]

BILLING CODE 3510-22-P